DEPARTMENT OF STATE

[Public Notice 8214]

Shipping Coordinating Committee; Notice of Committee Meeting

The Shipping Coordinating Committee (SHC) will conduct an open meeting for the International Maritime Organization's Marine Environment Protection Committee (MEPC).

The meeting will be held at 9:30 a.m. on Wednesday, May 8, 2013, in Room 2501 of the United States Coast Guard Headquarters Building, 2100 Second Street SW., Washington, DC, 20593. The primary purpose of the meeting is to prepare for the sixty-fifth session of the International Maritime Organization's Marine Environment Protection Committee (MEPC 65) to be held at the International Maritime Organization in London, United Kingdom from May 13 to 17, 2013.

The primary matters to be considered include the following:

—Harmful aquatic organisms in ballast water;

—Recycling of ships;

—Air pollution and energy efficiency;

—Reduction of GHG emissions from ships;

—Consideration and adoption of amendments to mandatory instruments;

—Interpretation of, and amendments to, MARPOL and related instruments;

—Implementation of the OPRC Convention and the OPRC-HNS Protocol and relevant Conference resolutions;

—Identification and protection of Special Areas and Particularly Sensitive Sea Areas;

—Inadequacy of reception facilities;

—Reports of sub-committees;

—Work of other bodies;

—Harmful anti-fouling systems for ships;

—Promotion of implementation and enforcement of MARPOL and related instruments;

—Technical co-operation activities for the protection of the marine environment;

—Role of the human element;

—Noise from commercial shipping and its adverse impacts on marine life;

—Work program of the Committee and subsidiary bodies;

—Application of the Committees' Guidelines;

—Election of the Chairman and Vice-Chairman for 2014.

Members of the public may attend this meeting up to the seating capacity of the room. To facilitate the building security process and to request reasonable accommodation, those who plan to attend should contact the meeting coordinator, Ms. Regina Bergner not later than Monday, April 29, 2013, 10 days prior to the meeting. Contact should be made by email at Regina.R.Bergner@uscg.mil; by phone at (202) 372-1431; or in writing to Ms. Regina Bergner, Commandant (CG-OES-3), U.S. Coast Guard Headquarters, 2100 2nd Street SW., STOP 7126, Washington, DC 20593-7126. Requests made after April 29, 2013, might not be able to be accommodated. Please note that due to security considerations, two valid government-issued photo identifications must be presented to gain entrance to the Headquarters building. The Headquarters building is accessible by taxi and privately owned conveyance (public transportation is not generally available). Public parking is available in the vicinity of the Headquarters building. Additional information regarding this and other IMO SHC public meetings may be found at: www.uscg.mil/imo. Electronic copies of documents associated with the 65th Session of MEPC will be available at the public meeting or by request prior to the meeting. U.S. citizens may request copies of MEPC documents prior to the meeting by contacting Ms. Regina Bergner using the information provided above.

Dated: February 14, 2013.
Brian W. Robinson,
Executive Secretary, Shipping Coordinating Committee.

[FR Doc. 2013-05073 Filed 3-4-13; 8:45 am]

BILLING CODE 4710-09-P